FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 10, 2007.

A. Federal Reserve Bank of Cleveland (Douglas A. Banks, Vice President) 1455 East Sixth Street, Cleveland, Ohio 44101-2566:

1. Jay L. Dunlap, Lincoln, Nebraska; to retain voting shares of New Richmond Bancorporation, Inc., and thereby indirectly retain voting shares of River Hills Bank, National Association, both of New Richmond, Ohio.

2. Samad Yaltaghian, Rushden, Northants, England; to acquire voting shares of New Richmond Bancorporation, Inc., and thereby indirectly acquire voting shares of River Hills Bank, National Association, both of New Richmond, Ohio.

B. Federal Reserve Bank of Minneapolis (Jacqueline G. King, Community Affairs Officer) 90 Hennepin Avenue, Minneapolis, Minnesota 55480-0291:

1. Richard Tucker Plumstead Revocable Trust, Richard Tucker Plumstead as trustee and individually; Richard Tucker Plumstead IRA; Vicki L. Turnquist Revocable Trust, Vicki L. Turnquist as trustee and individually; Vicki L. Turnquist IRA; and Vicki L. Turnquist Simplified Employee Pension Plan, as a group acting in concert; to retain voting shares of Private Bancorporation, Inc., and thereby indirectly retain voting shares of Private Bank Minnesota, all of Minneapolis, Minnesota.

Board of Governors of the Federal Reserve System, November 19, 2007.
Robert deV. Frierson,
Deputy Secretary of the Board.

[FR Doc. E7-22848 Filed 11-21-07; 8:45 am]

BILLING CODE 6210-01-S